FEDERAL TRADE COMMISSION

Sunshine Act Meeting Notice

AGENCY: Federal Trade Commission.

TIME AND DATE: 2 p.m., Wednesday, November 12, 2003.

PLACE: Federal Trade Commission Building, Room 532, 600 Pennsylvania Avenue, NW., Washington, DC 20580.

STATUS: Part of this meeting will be open to the public. The rest of the meeting will be closed to the public.

MATTERS TO BE CONSIDERED: Portion Open to Public: (1) Oral Argument in Chicago Bridge & Iron Company, N.V., et al. Docket 9300.

PORTION CLOSED TO THE PUBLIC: (2) Executive Session to follow Oral Argument in Chicago Bridge & Iron Company, N.V., et al. Docket 9300.

CONTACT PERSON FOR MORE INFORMATION: Mitch Katz. Office of Public Affairs: (202) 326-2180. Recorded Message: (202) 326-2711.

Donald S. Clark,
Secretary.

[FR Doc. 03-27470 Filed 10-28-03; 11:49 am]

BILLING CODE 6750-01-M